FEDERAL COMMUNICATIONS COMMISSION

[CG Docket No. 03-123; DA 09-2097]

Pleading Cycle Established for Comments on Petition of Qwest Wireless for Waiver of the Commission's Rules on Contributions to the Interstate Telecommunications Relay Service Fund

AGENCY: Federal Communications Commission.

ACTION: Notice.

SUMMARY: In this document, the Commission seeks comment on a petition filed by Qwest Wireless for waiver of the Interstate Telecommunications Relay Service Fund contribution requirement contained in the Commission's rules.

DATES: Comments are due on or before October 14, 2009. Reply comments are due on or before October 21, 2009. Ex parte submissions can be filed on an ongoing basis.

ADDRESSES: Pursuant to 47 CFR 1.415 and 1.419 of the Commission rules, 47 CFR 1.415, 1.419, interested parties may file comments and reply comments identified by [CG Docket No. 03-123], by any of the following methods:

• Federal eRulemaking Portal: http://www.regulations.gov. Follow the instructions for submitting electronic filings.

• Federal Communications Commission's Electronic Comment Filing System (ECFS): Follow the instructions for submitting electronic filings.

• By filing paper copies.

For electronic filers through ECFS or the Federal eRulemaking Portal, filers must transmit one electronic copy of the comment or reply comment to the docket number referenced in the caption. In completing the transmittal screen, filers should include their full name, U.S. Postal Service mailing address, and the applicable docket number. Parties may also submit an electronic comment by Internet e-mail. To get filing instructions, filers should send an e-mail to ecfs@fcc.gov, and include the following words in the body of the message, “get form.” A sample form and directions will be sent in response.

Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

Parties who choose to file by paper should also submit their documents on a compact disc. The compact disc should be submitted, along with three paper copies, to: Dana Wilson, Consumer and Governmental Affairs Bureau, Disability Rights Office, 445 12th Street, SW., Room 3-C418, Washington, DC 20554. Such a submission should be on a compact disc formatted in an IBM compatible format using Word 2003 or compatible software. The compact disc should be accompanied by a cover letter and should be submitted in “read only” mode. It should also be clearly labeled with the party's name, the proceedings (including the docket numbers) which in this case is CG Docket No. 03-123, type of pleading (comment or reply comment), date of submission, and the name of the electronic file on the compact disc. The label should also include the following phrase “Disc Copy—Not an Original.” Each compact disc should contain only one party's pleadings, preferably in a single electronic file. In addition, paper filers must send compact disc copies to the Commission's copy contractor, Portals II, 445 12th Street, SW., Room CY-B402, Washington, DC 20554.

The Commission's contractor will receive hand-delivered or messenger-delivered paper filings and electronic media for the Commission's Secretary at 236 Massachusetts Avenue, NE., Suite 110, Washington, DC 20002. The filing hours at this location are 8 a.m. to 7 p.m. All hand deliveries must be held together with rubber bands or fasteners. Any envelopes must be disposed of before entering the building.

Commercial mail and electronic media sent by overnight mail (other than U.S. Postal Service Express Mail and Priority Mail) must be sent to 9300 East Hampton Drive, Capitol Heights, MD 20743. U.S. Postal Service first-class, Express, and Priority mail should be addressed to 445 12th Street, SW., Washington, DC 20554.

Pursuant to § 1.1206 of the Commission's rules, 47 CFR 1.1206, this proceeding will be conducted as a permit-but-disclosed proceeding in which ex parte communications are subjected to disclosure. Persons making oral ex parte presentations are reminded that memoranda summarizing the presentation must contain summaries of the substance of the presentations and not merely a listing of the subjects discussed. More than a one or two sentence description of the views and arguments presented generally is required. See 47 CFR 1.1206(b) of the Commission's rules. Other rules pertaining to oral and written ex parte presentations in permit-but-disclosed proceedings are set forth in § 1.1206(b) of the Commission's rules.

FOR FURTHER INFORMATION CONTACT: Dana Wilson, Consumer and Governmental Affairs Bureau, Disability Rights Office, at (202) 418-2247 (voice), (202) 418-7898 (TTY), or e-mail at Dana.Wilson@fcc.gov.

SUPPLEMENTARY INFORMATION: This is a summary of the Commission's document DA 09-2097, released September 23, 2009, seeking comment on a petition filed by Qwest Wireless for waiver of the Interstate Telecommunications Relay Service Fund contribution requirement contained in 47 CFR 64.604(c)(5)(iii) of the Commission's rules. See Pleading Cycle Established for Comments on Petition of Qwest Wireless for Waiver of the Commission's Rules on Contributions to the Interstate Telecommunications Relay Service Fund, CG Docket No. 03-123. The full text of document DA 09-2097 and copies of any subsequently filed documents in this matter will be available for public inspection and copying during regular business hours at the FCC Reference Information Center, Portals II, 445 12th Street, SW., Room CY-A257, Washington, DC 20554. Document DA 09-2097 and copies of subsequently filed documents in this matter may also be purchased from the Commission's duplicating contractor at Portals II, 445 12th Street, SW., Room CY-B402, Washington, DC 20554. Customers may contact the Commission's duplicating contractor at its Web site http://www.bcpiweb.com, or by calling 1-800-378-3160. To request materials in accessible formats for people with disabilities (Braille, large print, electronic files, audio format), send an e-mail to fcc504@fcc.gov or call the Consumer and Governmental Affairs Bureau at (202) 418-0530 (voice), (202) 418-0432 (TTY). Document DA 09-2097 can also be downloaded in Word or Portable Document Format (PDF) at: http://www.fcc.gov/cgb/dro/trs.html.

Synopsis

On June 26, 2009, Qwest Wireless filed a petition for waiver of the Interstate Telecommunications Relay Service (TRS) Fund contribution requirement contained in 47 CFR 64.604(c)(5)(iii) of the Commission's rules. See Qwest Wireless, Petition for Waiver of the TRS Fund Contribution Rules, 47 CFR 64.604(c)(5)(iii) of the Commission's rules, CG Docket No. 03-123, filed June 26, 2009 (Qwest Wireless Petition). Specifically, Qwest Wireless seeks a waiver of the relevant contribution rule so that it would not contribute to the Interstate TRS Fund in the funding year beginning July 1, 2009.

Qwest Wireless states that it is exiting the telecommunications business and will discontinue service on October 31, 2009. Qwest Wireless Petition at 3. Qwest Wireless further states that it is seeking this waiver “so that its contributions to the TRS Fund in calendar year 2009 are better aligned with the recovery of TRS costs from its current customers.” Qwest Wireless Petition at 3.

Federal Communications Commission.
Mark Stone,
Deputy Chief, Consumer and Governmental Affairs Bureau.

[FR Doc. E9-25691 Filed 10-23-09; 8:45 am]

BILLING CODE 6712-01-P